TENNESSEE VALLEY AUTHORITY

Agency Information Collection Activities: Information Collection Renewal; Comment Request; Correction

AGENCY: Tennessee Valley Authority.

ACTION: 60-Day notice of submission of information collection renewal approval and request for comments; correction.

SUMMARY: The Tennessee Valley Authority published a document in the Federal Register of March 17, 2022, concerning a proposed information collection renewal that will be submitted to the Office of Management and Budget (OMB) for review, as required by the Paperwork Reduction Act of 1995. The Tennessee Valley Authority is soliciting public comments on this proposed collection renewal. A form in said document was incorrectly referenced.

FOR FURTHER INFORMATION CONTACT: Public Information Collection Clearance Officer: Jennifer A. Wilds, Specialist, Records Compliance, Tennessee Valley Authority, 400 W Summit Hill Dr., CLK-320, Knoxville, TN 37902-1401; telephone (865) 632-6580 or by email pra@tva.gov.

SUPPLEMENTARY INFORMATION: Correction: In the Federal Register of March 17, 2022, in FR Doc. 2022-05647, on page 15300, in the 3rd column, in the “Need for and Use of Information Section”, correct the title of form “Tennessee Valley Authority Floating Cabin Electrical Inspection Form (TVA Form 21382)” to read: “Tennessee Valley Authority Floating Cabin Electrical Certification Form (TVA Form 21382)”.

Dated: March 17, 2022.
Rebecca L. Coffey,
Agency Records Officer.

[FR Doc. 2022-06244 Filed 3-23-22; 8:45 am]

BILLING CODE 8120-08-P